DEPARTMENT OF THE TREASURY

Internal Revenue Service

26 CFR Part 1

[TD 8966]

RIN 1545-AT47

Effect of the Family and Medical Leave Act on the Operation of Cafeteria Plans; Correction

AGENCY: Internal Revenue Service (IRS), Treasury

ACTION: Correction to final regulations.

SUMMARY: This document contains corrections to final regulations that were published in the Federal Register on October 17, 2001 (66 FR 52675). These regulations relate to cafeteria plans that reflect changes made by the Family and Medical Leave Act of 1993 (Act).

DATES: These corrections are effective October 17, 2001.

FOR FURTHER INFORMATION CONTACT: Shoshanna Chaiton, (202) 622-6080 (not a toll-free number).

SUPPLEMENTARY INFORMATION:

Background

The final regulations that are the subject of this correction are under section 125 of the Internal Revenue Code.

Need for Correction

As published, the final regulations (TD 8966) contain errors that may prove to be misleading and are in need of clarification.

Correction of Publication

Accordingly, final regulations (TD 8966), (FR Doc. 01-25909), published on October 17, 2001 (66 FR 52675) is corrected as follows:

§ 1.125-3 [Corrected]

On page 52677, column 3, § 1.125-3, line 3, the language “Family and Medical Leave Act (FMLA)” is corrected to read “Family and Medical Leave Act (FMLA), 29 U.S.C. 2601 et seq.,”

On page 52677, column 3, § 1.1253, Q-1, lines 4 and 5, the language “when taking unpaid Family and Medical Leave Act (FMLA), 29 U.S.C., is corrected to read “when taking unpaid FMLA, 29 U.S.C.”

LaNita Van Dyke,
Acting Chief, Regulations Unit, Associate Chief Counsel, (Income Tax and Accounting).

[FR Doc. 01-30621 Filed 12-10-01; 8:45 am]

BILLING CODE 4830-01-P